FEDERAL RESERVE SYSTEM

Change in Bank Control Notices; Formations of, Acquisitions by, and Mergers of Bank Holding Companies; Correction

This notice corrects a notice (FR Doc. 2013-24477) published on page 62333 of the issue for Thursday, October 17, 2013.

Under the Federal Reserve Bank of Minneapolis heading, the entry for Karen Neidhardt, Tampa, Florida, is revised to read as follows:

A Federal Reserve Bank of Minneapolis (Jacqueline G. King, Community Affairs Officer) 90 Hennepin Avenue, Minneapolis, Minnesota 55480-0291:

1. Karen Neidhardt, Tampa, Florida, individually and as trustee, to retain voting shares and thereby control Jorgenson Holding Company, Inc., and thereby indirectly retain voting shares and control State Bank and Trust of Kenmare, both in Kenmare, North Dakota, and The Citizens State Bank at Mohall, Mohall, North Dakota.

In addition, Ann Lenore Musser Irrevocable Trust, Kenmare, North Dakota, Karen Neidhardt and Jane Neidhardt Farris, co-trustees, and Jane Ellen Neidhardt Irrevocable Trust, all of Kenmare, North Dakota, Karen Neidhardt and Ann N. Musser, co-trustees, to retain voting shares of Jorgenson Holding Company and thereby join the Jorgenson family group.

Comments on this application must be received by October 31. 2013.

Board of Governors of the Federal Reserve System, October 17, 2013.
Margaret McCloskey Shanks,
Deputy Secretary of the Board.

[FR Doc. 2013-24619 Filed 10-21-13; 8:45 am]

BILLING CODE 6210-01-P